DEPARTMENT OF THE TREASURY

Submission for OMB Review; Comment Request

July 23, 2014.

The Department of the Treasury will submit the following information collection requests to the Office of Management and Budget (OMB) for review and clearance in accordance with the Paperwork Reduction Act of 1995, Public Law 104-13, on or after the date of publication of this notice.

DATES: Comments should be received on or before August 27, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-1465.

Type of Review: Extension without change of a currently approved collection.

Title: TD 8668-(Final) Environmental Settlement Funds—Classification.

Abstract: Section 7701 and the regulations thereunder classify entities for federal tax purposes as partnerships, associations, and trusts. Section 671 requires a grantor treated as an owner of a portion of a trust to include items in income. This regulation provides reporting rules.

Affected Public: Private Sector: Businesses or other for-profits.

Estimated Annual Burden Hours: 2,000.

OMB Number: 1545-1548.

Type of Review: Extension without change of a currently approved collection.

Title: Rev. Proc. 2013-30, Uniform Late S Corporation Election Revenue Procedure.

Abstract: The information will help the IRS determine whether a taxpayer has met the requirements of the Revenue Procedure and whether a taxpayer has reasonable cause for failing to make a timely election. The collection is required to make a late election pursuant to this Revenue Procedure. This information will be used to determine whether the eligibility requirements for obtaining relief have been met.

Affected Public: Private Sector: Businesses or other for-profits.

Estimated Annual Burden Hours: 50,000.

OMB Number: 1545-1760.

Type of Review: Revision of a currently approved collection.

Title: Payments From Qualified Education Programs (Under Sections 529 and 530).

Form: 1099-Q.

Abstract: Form 1099-Q, Payments From Qualified Education Programs (Under Sections 529 and 530), is used to report distributions from private and state qualified tuition programs as required under Internal Revenue Code sections 529 and 530. A Form 1099-Q is filed if you (a) are an officer or an employee, or the designee of an officer or employee, having control of a program established by a state or eligible educational institution; and (b) made a distribution from a qualified tuition program (QTP). A trustee of a Coverdell education savings account (ESA) must file Form 1099-Q to report distributions made from Coverdell ESAs. To lessen the burden for payers, Form 1099-Q was developed to report distributions from private and state qualified tuition programs. A copy of the Form 1099-Q must be furnished to the recipient.

Affected Public: Private Sector: Businesses or other for-profits.

Estimated Annual Burden Hours: 530,090.

OMB Number: 1545-1835.

Type of Review: Revision of a currently approved collection.

Title: Application for Registration (for Certain Excise Tax Activities) and Questionnaires.

Form: 637.

Abstract: The authority for the requirement for registration is found in Internal Revenue Code sections 4101 (Fuel Taxes), 4222 (Retailers and Manufacturers Excise Taxes), 4682 (Ozone-depleting Chemicals Tax), and the regulations. Form 637, Application for Registration (For Certain Excise Tax Activities) is used to apply for excise tax registration for activities under sections 4101, 4222, and 4682. Common activities for which persons are registered include that of a refiner, terminal operator, position holder, throughputter, ultimate vendor, first retail seller of certain heavy vehicles, and manufacturer of sport fishing equipment. The information will be used to make an informed decision on whether the applicant/registrant qualifies for registration.

Affected Public: Private Sector: Businesses or other for-profits.

Estimated Annual Burden Hours: 30,499.

Dawn D. Wolfgang,
Treasury PRA Clearance Officer.

[FR Doc. 2014-17682 Filed 7-25-14; 8:45 am]

BILLING CODE 4830-01-P